DEPARTMENT OF AGRICULTURE

Rural Business—Cooperative Service

Notice of Request for Comments on Extension of a Currently Approved Information Collection

AGENCY: Rural Business-Cooperative Service, USDA.

ACTION: Notice; comments requested.

SUMMARY: In accordance with the Paperwork Reduction Act of 1995, the Rural Business-Cooperative Service (RBCS) invites comments on this information collection for which approval from the Office of Management and Budget (OMB) will be requested. The intention is to request an extension of a currently approved information collection in support of the Guidelines for Designating Biobased Products for Federal Procurement.

DATES: Comments on this notice must be received by April 20, 2021 to be assured of consideration.

FOR FURTHER INFORMATION CONTACT: Vernell Thompson, Procurement Analyst, USDA Rural Development, 1400 Independence Avenue SW, Washington, DC 20250-1522. Telephone: (202) 720-4145, Email: vernell.thompson@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RBCS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent by the following method:

• Federal eRulemaking Portal: Go to https://www.regulations.gov. Follow the instructions for submitting comments.

Title: Guidelines for Designating Biobased Products for Federal Procurement.

OMB Control Number: 0570-0073.

Expiration Date of Approval: April 30, 2021.

Type of Request: Extension of a currently approved information collection.

Abstract: The USDA BioPreferred Program provides that qualifying biobased products that fall under product categories (generic groups of biobased products) that have been designated for preferred procurement by rule making are required to be purchased by Federal agencies in lieu of their fossil energy-based counterparts, with certain limited exceptions. Further, USDA is required by section 9002 of the Farm Security and Rural Investment Act of 2002, as amended by the Food, Conservation, and Energy Act of 2008 and the Agricultural Act of 2014, and the Agricultural Improvement Act of 2018, to provide certain information on qualified biobased products to Federal agencies. To meet these statutory requirements, USDA will gather that information from manufacturers and vendors of biobased products. The information sought by USDA can be transmitted electronically using the website http://www.biopreferred.gov. If for any reason the requested information cannot be electronically transmitted, USDA will provide technical assistance to support the transmission of information to USDA. The information collected will enable USDA to meet statutory information requirements that will then permit USDA to designate product categories for preferred procurement under the BioPreferred Program. Once product categories are designated, manufacturers and vendors of qualifying biobased products that fall under these designated product categories will benefit from preferred procurement by Federal agencies. This collection was previously approved under 0503-0011, and on February 4, 2021, was transferred to Rural Development and assigned OMB Control No. 0570-0073.

Estimate of Burden: Public reporting burden for this collection of information is estimated to average 40 hours per response.

Respondents: Manufacturers and vendors of biobased products. Participation is entirely voluntary.

Estimated Annual Number of Respondents: 220.

Estimated Number of Responses per Respondent: One per manufacturer or vendor.

Estimated Total Annual Burden on Respondents: 8,800 hours, one time only. Manufacturers and vendors are only asked to respond once for each stand-alone product or product family. Therefore, there is no ongoing annual paperwork burden on respondents unless they wish to add additional stand-alone products or product families. Furthermore, their participation in the BioPreferred Program is entirely voluntary.

Copies of this information collection can be obtained from Kimble Brown, Innovation Center—Regulations Management Division, at (202) 720-6780, Email: kimble.brown@wdc.usda.gov.

All responses to this notice will be summarized and included in the request for OMB approval. All comments will also become a matter of public record.

Mark Brodziski,
Acting Administrator, Rural Business-Cooperative Service.

[FR Doc. 2021-03349 Filed 2-18-21; 8:45 am]

BILLING CODE 3410-XY-P